DEPARTMENT OF HOMELAND SECURITY

Federal Emergency Management Agency

[Docket ID FEMA-2015-0001; Internal Agency Docket No. FEMA-B-1465]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 16, 2015.
Roy E. Wright,
Deputy Associate Administrator for Mitigation, Department of Homeland Security, Federal Emergency Management Agency.

State and county | Location and case No. | Chief executive officer of community | Community map repository | Online location of letter of map revision | Effective date of modification | Community No.
Alaska:
Fairbanks-North Star Borough | Fairbanks-North Star Borough (14-10-1677P) | The Honorable Luke Hopkins Mayor, Fairbanks-North Star Borough, 809 Pioneer Road, Fairbanks, AK 99701 | 809 Pioneer Road, Fairbanks, AK 99701 | http://www.msc.fema.gov/lomc | April 15, 2015 | 025009
Indiana:
Lake | City of Hammond (15-05-0234P) | The Honorable Thomas M. McDermott, Jr., Mayor, City of Hammond, 5925 Calumet Avenue, Hammond, IN 46320 | 5925 Calumet Avenue, Hammond, IN 46320 | http://www.msc.fema.gov/lomc | April 1, 2015 | 180134
Iowa:
Washington | City of Kalona (14-07-2178P) | The Honorable Ken Herington, Mayor, City of Kalona, 511 C Avenue, Kalona, IA 52247 | 511 C Avenue, Kalona, IA 52247 | http://www.msc.fema.gov/lomc | April 10, 2015 | 190601
Kansas:
Harvey | City of Sedgwick (14-07-2492P) | The Honorable Rodney Eggleston, Mayor, City of Sedwick, 511 North Commercial, Sedgwick, KS 67135 | 511 North Commercial, Sedgwick, KS 67135 | http://www.msc.fema.gov/lomc | April 10, 2015 | 200134
Harvey | Unincorporated areas of Harvey County (14-07-2492P) | The Honorable Ron Krehbiel, 3rd District Commissioner, Harvey County, 800 North Main Street, Newton, KS 67114 | 800 North Main Street, Newton, KS 67114 | http://www.msc.fema.gov/lomc | April 10, 2015 | 200585
Sedgwick | Unincorporated areas of Sedgwick County (14-07-2492P) | The Honorable James Skelton, 5th District Commissiner, Sedgwick County, 525 North Main #320, Wichita, KS 67203 | 525 North Main #320, Wichita, KS 67203 | http://www.msc.fema.gov/lomc | April 10, 2015 | 200321
Wyandotte | City of Kansas City (14-07-2400P) | The Honorable Mark R. Holland, Mayor, City of Kansas City, 701 North 7th Street, Suite 926, Kansas City, KS 66101 | 701 North 7th Street, Suite 926, Kansas City, KS 66101 | http://www.msc.fema.gov/lomc | April 21, 2015 | 200363
Maine:
Cumberland | Town of Harpswell (14-05-2910P) | The Honorable Elinor Mutler, Chair, Board of Selectsmen, Town of Harpswell, 263 Mountain Road, Harpswell, ME 04079 | 263 Mountain Road, Harpswell, ME 04079 | http://www.msc.fema.gov/lomc | June 3, 2015 | 230169
Washington:
Whitman | Town of Oakesdale (14-10-0693P) | The Honorable Dennis Palmer, Mayor, Town of Oaksdale, 105 North First Street, Oakesdale, WA 99158 | 105 North First Street, Oakesdale, WA 99158 | http://www.msc.fema.gov/lomc | April 3, 2015 | 530210
Whitman | Unincorporated areas of Whitman County (14-10-0693P) | The Honorable Art Swannack, District 1 Commissioner, Whitman County, 400 North Main Street, Colfax, WA 99111 | 400 North Main Street, Colfax, WA 99111 | http://www.msc.fema.gov/lomc | April 3, 2015 | 530205
Wisconsin:
Dane | Unincorporated areas of Dane County (14-05-6985P) | The Honorable Joe Parisi, Executive, Dane County, 210 Martin Luther King Jr. Boulevard, Madison, WI 53703 | 210 Martin Luther King Jr. Boulevard, Madison, WI 53703 | http://www.msc.fema.gov/lomc | April 16, 2015 | 550077
Dane | Village Of Cross Plains (14-05-6985P) | The Honorable Pat Andreoni, President, Village Of Cross Plains, 3041 Creekside Way, Cross Plains, WI 53528 | 3041 Creekside Way, Cross Plains, WI 53528 | http://www.msc.fema.gov/lomc | April 16, 2015 | 550081

[FR Doc. 2015-02233 Filed 2-4-15; 8:45 am]

BILLING CODE 9110-12-P